DEPARTMENT OF DEFENSE

Office of the Secretary

Notice of Availability of Designation of Chinese Military Companies

AGENCY: Office of the Under Secretary of Defense (Acquisition and Sustainment), Department of Defense.

ACTION: Notice of Chinese military companies operating in the United States.

SUMMARY: The Deputy Secretary of Defense has determined that the entities listed in the SUPPLEMENTARY INFORMATION section of this notice qualify as “Chinese military companies” in accordance with the William M. (Mac) Thornberry National Defense Authorization Act for Fiscal Year 2021.

FOR FURTHER INFORMATION CONTACT: Mr. Devante Brown (GIES), (703) 695-8545.

SUPPLEMENTARY INFORMATION: Section 1260H of the William M. (Mac) Thornberry National Defense Authorization Act for Fiscal Year 2021 (Pub. L. 116-283) requires the Secretary of Defense to identify and publish a list of “Chinese military companies” annually until December 31, 2030. Paragraph (b)(2) of this section requires the Secretary of Defense to publish the unclassified portion of such list in the Federal Register (FR).

The Deputy Secretary of Defense has determined that the following entities qualify as “Chinese military companies” in accordance with Section 1260H ¹:

¹ Hesai Technology Co., Ltd. was previously identified as and remains a Chinese military company operating in the United States in accordance with Section 1260H of the William M. (“Mac”) Thornberry National Defense Authorization Act for Fiscal Year 2021 (Pub. L. 116-283) as reported in 89 FR 86230 (October 29, 2024).

360 Security Technology Inc. (Qihoo 360).

Aerospace CH UAV Co., Ltd (CH UAV)

Autel Robotics Co., Ltd.

Aviation Industry Corporation of China Ltd. (AVIC)

AVIC Aerospace Systems Co., Ltd.

AVIC Airborne Systems Co., Ltd. (formerly China Avionics Systems Co., Ltd.)

AVIC Asset Management Corporation Ltd.

AVIC Aviation High-Technology Company Limited (AVIC Aviation Hi-Tech)

AVIC Electromechanical Systems Co. Ltd.

AVIC Heavy Machinery Company Limited (AVIC Heavy Machinery)

AVIC JONHON Optronic Technology Co., Ltd. (AVIC Jonhon)

AVIC Shenyang Aircraft Company Limited (AVIC Shenyang)

AVIC Xi'an Aircraft Industry Group Company Ltd. (AVIC Xi'an)

Changhe Aircraft Industries (Group) Co., Ltd.

Jiangxi Hongdu Aviation Industry Co., Ltd. (Hongdu Aviation)

Shenyang Aircraft Design Institute

Xi'an Aircraft Industry Group Co., Ltd.

Zhonghang Electronic Measuring Instruments Company Limited (ZEMIC)

Baicells Technologies Co., Ltd.

Beijing Zhidao Chuangyu Information Technology Co., Ltd. (Knownsec)

BGI Group

BGI Genomics Co., Ltd. (BGI)

Forensic Genomics International (FGI)

MGI Tech Co., Ltd. (MGI)

ChangXin Memory Technologies, Inc. (CXMT)

Chengdu JOUAV Automation Tech Co., Ltd. (JOUAV)

Chengdu M&S Electronics Technology Co., Ltd. (M&S Electronics)

China Aerospace Science and Industry Corporation Limited (CASIC)

Addsino Co., Ltd.

Aerospace Precision Products Co., Ltd.

Aerosun Corporation (Aerosun)

Aisino Corporation

China Aerospace Automotive Co., Ltd.

China Cargo Airlines Co., Ltd.

China Communications Construction Group (Limited) (CCCG)

China Airport Construction Group Corporation

China Communications Construction Company Limited (CCCC)

China Communications Constructions USA, Inc.

China Traffic Construction USA, Inc.

John Holland Group Pty Ltd.

John Holland Services Pty Ltd.

China Construction Technology Co., Ltd. (CCTC)

China COSCO SHIPPING Corporation Limited (COSCO SHIPPING)

COSCO SHIPPING (North America) Inc.

COSCO SHIPPING Finance Co., Ltd.

China Electronics Corporation (CEC)

China International Information Services Ltd.

China Electronics Technology Group Corporation (CETC)

Anhui Sun Create Electronics Co., Ltd.

Cheng Du Westone Information Industry Co., Ltd.

GLARUN Technology Co., Ltd.

Guangzhou GCI Science & Technology Co., Ltd.

Hangzhou Hikvision Digital Technology Co., Ltd. (Hikvision)

Phoenix Optics Company Limited

Shanghai East China Computer Co., Ltd.

Taiji Computer Co., Ltd.

China General Nuclear Power Corporation (CGN)

China International Marine Containers (Group) Co., Ltd. (CIMC)

China Mobile Communications Group Co., Ltd. (China Mobile Comm)

China Mobile Limited (China Mobile)

China National Chemical Corporation Ltd. (ChemChina)

China National Chemical Engineering Group Corporation (CNCEC)

China National Chemical Engineering Co., Ltd.

China National Nuclear Corporation (CNNC)

China National Offshore Oil Corporation (CNOOC)

CNOOC China Limited (CNOOC China Ltd.)

CNOOC International Trading Co., Ltd. (CNOOC International Trading)

China North Industries Group Corporation Limited (Norinco Group)

Harbin First Machinery Group Ltd.

Inner Mongolia First Machinery Group Co., Ltd. (Inner Mongolia)

China Shipbuilding Trading Co., Ltd. (CSTC)

China South Industries Group Corporation (CSGC)

Costar Group Co., Ltd. (Costar)

Heilongjiang Northern Tools Co., Ltd.

China SpaceSat Co., Ltd. (China SpaceSat)

Oriental Blue Sky Titanium Technology Co., Ltd.

Xi'an Aerospace Tianhua Data Technology Co., Ltd.

China State Construction Engineering Corporation Limited (CSCEC)

China Construction America, Inc.

China State Shipbuilding Corporation Limited (CSSC)

China Telecom Group Co., Ltd. (China Telecom)

China Telecom Corporation Limited

China Three Gorges Corporation (CTG)

China United Network Communications Group Co., Ltd. (China Unicom)

China Unicom (BVI) Co., Ltd.

China Unicom (Hong Kong) Limited (China Unicom HK)

China Unicom Group (BVI) Co., Ltd.

China United Network Communications Co., Ltd.

CloudWalk Technology Co., Ltd. (CloudWalk)

Commercial Aircraft Corporation of China Limited (COMAC)

Beijing Aeronautical Science & Technology Research Institute (Beijing Research Center)

COMAC America Corporation (CAC)

Shanghai Aircraft Manufacturing Co., Ltd. (Assembly Manufacturing Center)

Contemporary Amperex Technology Co., Ltd. (CATL)

CRRC Corporation Limited (CRRC)

CSSC Offshore & Marine Engineering (Group) Company Limited (COMEC)

Guangzhou Wenchong Shipyard Co., Ltd.

Huacheng (Tianjin) Ship Leasing Co., Ltd.

Dawning Information Industry Co., Ltd. (Sugon)

Global Tone Communication Technology Co., Ltd. (GTCOM)

GTCOM Technology Corporation (GTCOM-US)

Guizhou Aviation Technical Development Co., Ltd. (Guizhou Aviation Tech)

Huawei Investment & Holding Co., Ltd. (Huawei Holding)

Huawei Technologies Co., Ltd. (Huawei)

Inspur Group Co., Ltd. (Inspur)

NetPosa Technologies, Ltd. (NetPosa)

Origincell Technology Co., Ltd.

Quectel Wireless Solutions Co., Ltd.

SDIC Intelligence (Xiamen) Information Co., Ltd.

Xiamen Meiya Zhongmin Electronic Technology Co., Ltd.

Semiconductor Manufacturing International Corporation (SMIC)

Better Way Enterprises Limited

China IC Capital Co., Ltd.

Magnificent Tower Limited

Semiconductor Manufacturing International (Beijing) Corporation (SMIC Beijing)

Semiconductor Manufacturing International (Shenzhen) Corporation (SMIC Shenzhen)

Semiconductor Manufacturing International (Tianjin) Corporation (SMIC Tianjin]

Semiconductor Manufacturing North China (Beijing) Corporation

Semiconductor Manufacturing South China Corporation (SMIC South China)

SilTech Semiconductor Corporation

SMIC Holdings Limited (SMIC Holdings)

SMIC Semiconductor Manufacturing (Shanghai) Co., Ltd (SMIC Shanghai)

SMIC, Americas

SenseTime Group, Inc.

Shanghai Yitu Network Technology Co., Ltd. (Yitu)

Shenzhen DJI Innovation Technology Co., Ltd. (DJI)

Shenzhen Dajiang Baiwang Technology Co., Ltd.

Sinotrans & CSC Holdings Co., Ltd.

Tencent Holdings Limited

Wuhan Geosun Navigation Technology Co., Ltd. (Geosun)

Yangtze Memory Technologies Co., Ltd. (YMTC)

Zhejiang Dahua Technology Co., Ltd. (Dahua)

Chengdu Dahua Wisdom Information Technology Co., Ltd.

* Subsidiaries Listed with Parent Companies

The Deputy Secretary of Defense has determined that the following previously listed entities should be removed from the most recent Section 1260H List announced on January 31, 2024:

Beijing Megvii Technology Co., Ltd. (Megvii)

China Marine Information Electronics Company Limited (China Marine Info Elec)

China Railway Construction Corporation Limited (CRCC)

China State Construction Group Co.

China Telecommunications Corporation

ShenZhen Consys Science & Technology Co., Ltd. (Consys)

Reconsideration Process

Entities that are included on the 1260H List may request reconsideration of this decision. Requests for reconsideration should include:

1. The listed entity's name and mailing address (including email address) and an authorized representative's name and mailing address (including email address) and

2. A statement indicating the entity's intent to request reconsideration of the Department's determination, including a detailed description with supporting evidence of why the listed entity should be removed from the 1260H List.

The request for removal may also include additional information such as arguments and evidence that establishes that an insufficient basis exists for the listing or that the circumstances resulting in the listing no longer apply.

Requests for reconsideration must be emailed to osd.pentagon.ousd-a-s.list.1260h-list@mail.mil.

Dated: January 2, 2025.
Aaron T. Siegel,
Alternate OSD Federal Register Liaison Officer, Department of Defense.

[FR Doc. 2025-00070 Filed 1-6-25; 8:45 am]

BILLING CODE 6001-FR-P